SMALL BUSINESS ADMINISTRATION

[License No. 04/04-0311]

BB&T Capital Partners Mezzanine Fund II, L.P.; Notice Seeking Exemption Under Section 312 of the Small Business Investment Act, Conflicts of Interest

Notice is hereby given that BB&T Capital Partners Mezzanine Fund II, L.P., 101 N. Cherry Street, Suite 700, Winston-Salem, NC 27101, a Federal Licensee under the Small Business Investment Act of 1958, as amended (“the Act”), in connection with the financing of a small concern, has sought an exemption under Section 312 of the Act and Section 107.730, Financings which Constitute Conflicts of Interest of the Small Business Administration (“SBA”) Rules and Regulations (13 CFR 107.730). BB&T Capital Partners Mezzanine Fund II, L.P. proposes to provide debt financing to Marketplace Events, LLC, 31300 Solon Road, Solon, OH 44139 (“Marketplace Events”). The proceeds will be used to recapitalize the company.

The financing is brought within the purview of § 107.730(a)(4) of the Regulations because portions of the financing will be used to return capital and repay obligations to BB&T Capital Partners/Windsor Mezzanine Fund, LLC, an Associate of the Licensee and this transaction is considered Financing an Associate and Providing Financing to discharge an obligation to an Associate requiring prior SBA approval.

Notice is hereby given that any interested person may submit written comments on the transaction within 15 days of the date of this publication to the Associate Administrator for Investment. Small Business Administration, 409 Third Street SW., Washington, DC 20416.

Dated: February 20, 2013.
Sean J. Greene,
Associate Administrator for Investment.

[FR Doc. 2013-04464 Filed 2-27-13; 8:45 am]

BILLING CODE 8025-01-M